FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011223-033.

Title: Transpacific Stabilization Agreement.

Parties: APL Co. Pte. Ltd./American President Lines, Ltd.; COSCO Container Lines Company Ltd.; Evergreen Marine Corporation (Taiwan) Ltd.; Hanjin Shipping Co., Ltd.; Hapag-Lloyd Container Line GmbH; Hyundai Merchant Marine Co., Ltd.; Kawasaki Kisen Kaisha, Ltd.; Mitsui O.S.K. Lines, Ltd.; Nippon Yusen Kaisha; Orient Overseas Container Line Limited; and Yangming Marine Transport Corp.

Filing Party: David F. Smith, Esq.; Sher & Blackwell LLP, 1850 M Street, NW., Suite 900, Washington, DC 20036.

Synopsis: The amendment reflects the withdrawal of CMA-CGM S.A. from the agreement effective January 1, 2006.

Agreement No.: 011407-009.

Title: Australia/United States ContainerLine Association.

Parties: Hamburg-Süd; P&O Nedlloyd Limited; Australia-New Zealand Direct Line; and CP Ships USA, LLC.

Filing Party: Wayne R. Rohde, Esq.; Sher & Blackwell, LLP, 1850 M Street, NW., Suite 900, Washington, DC 20036.

Synopsis: The amendment clarifies the parties' authority to declare tariff rates, rules, and regulations to be “open.”

Agreement No.: 011926.

Title: Transpacific Space Charter Agreement.

Parties: CMA-CGM, S.A. and COSCO Container Lines Co., Ltd.

Filing Party: Paul M. Keane, Esq.; Cichanowicz, Callan, Keane, Vengrow & Textor, LLP, 61 Broadway, Suite 3000, New York, NY 10006-2802.

Synopsis: The agreement authorizes COSCO to charter vessel space to CMA-CGM between ports in China and the port of Long Beach, CA.

Agreement No.: 011927.

Title: LT/Hatsu Slot Charter Agreement.

Parties: Lloyd Triestino di Navigazione S.p.A. (“LT”); and Hatsu Marine Ltd. (“Hatsu”).

Filing Party: Paul M. Keane, Esq.; Cichanowicz, Callan, Keane, Vengrow & Textor, LLP, 61 Broadway, Suite 3000, New York, NY 10006-2802.

Synopsis: Pursuant to the agreement, Hatsu will charter 100 slots from LT between U.S. East Coast ports in the Portland, Maine/Key West, Florida range and ports in the Western Mediterranean and on the Atlantic Coast of the Iberian Peninsula.

Agreement No.: 011928.

Title: Maersk Line/CP Ships Slot Charter Agreement.

Parties: CP Ships (UK) Limited/CP Ships USA LLC (“CP Ships”) and A.P. Moller-Maersk A/S, trading under the name of Maersk Line (“Maersk”).

Filing Party: Wayne R. Rohde, Esq.; Sher & Blackwell LLP, 1850 M Street, NW., Suite 900, Washington, DC 20036.

Synopsis: The agreement would authorize the charter of space from Maersk to CP Ships between ports on the U.S. Atlantic Coast and ports in Australia, New Zealand, North Europe, Jamaica, and Panama. It would also authorize the parties to engage in a limited range of cooperative activities in connection with the space charter.

Agreement No.: 011929.

Title: Hapag-Lloyd/Zim Mediterranean Slot Exchange Agreement.

Parties: Hapag-Lloyd Container Line GmbH and Zim Integrated Shipping Services, Ltd.

Filing Party: Wayne R. Rohde, Esq.; Sher & Blackwell LLP, 1850 M Street, NW., Suite 900, Washington, DC 20036.

Synopsis: The agreement would authorize the parties to exchange space on their respective services operating between ports on the U.S. Atlantic and Gulf Coasts and ports in Greece, Israel, Italy, Malta, and Spain.

Agreement No.: 201167.

Title: Bi-State Public Marine Terminal Discussion Agreement.

Parties: South Carolina State Ports Authority and Georgia Ports Authority.

Filing Party: Warren L. Dean, Jr., Esq.; Thompson Coburn LLP, 1909 K Street, NW., Washington, DC 20006-1167.

Synopsis: The agreement would authorize the parties to discuss, among other things, terminal rates, charges, rules, conditions of service, terminal congestion, and methods for relieving terminal congestion. The parties requested expedited review.

By Order of the Federal Maritime Commission.
Dated: December 29, 2005.
Bryant L. VanBrakle,
Secretary.

[FR Doc. E5-8325 Filed 1-4-06; 8:45 am]

BILLING CODE 6730-01-P